DEPARTMENT OF AGRICULTURE

Forest Service

Intergovernmental Advisory Committee Meeting, Northwest Forest Plan

AGENCY: Forest Service, USDA.

ACTION: Notice of meeting.

SUMMARY: The Intergovernmental Advisory Committee (IAC), Northwest Forest Plan (NWFP), has scheduled an advisory meeting on June 1, 2006. The advisory meeting will begin at approximately 8 a.m. and end at 12 noon at the Red Lion Hotel, in the Juan de Fuca Conference room, 221 N. Lincoln Street, Port Angeles, Washington 98362, 877-333-2733. The purpose of the meeting is to review topics related to key findings and trends from the April 19-20, 2005 Science and the Northwest Forest Plan, Knowledge Gained Over a Decade conference hosted by the USDA, Forest Service, Pacific Northwest Research Station, and to collect advice regarding the implementation improvement strategies being drafted.

The meeting is open to the public and fully accessible for people with disabilities. A 10-minute time slot is reserved for public comments at 8:30 a.m. Interpreters are available upon request at least 10 days prior to the meeting. Written comments may be submitted for the meeting record. Interested persons are encouraged to attend.

FOR FURTHER INFORMATION CONTACT: Questions regarding this meeting may be directed to Kath Collier, Management Analyst, Regional Ecosystem Office, 333 SW First Avenue, P.O. Box 3623, Portland, OR 97208 (telephone: 503-808-2165).

Dated: April 19, 2006.
Anne Badgley,
Designated Federal Official.

[FR Doc. E6-7101 Filed 5-9-06; 8:45 am]

BILLING CODE 3410-11-P